COMMITTEE FOR PURCHASE FROM PEOPLE WHO ARE BLIND OR SEVERELY DISABLED

Procurement List Additions and Deletions

AGENCY: Committee for Purchase From People Who Are Blind or Severely Disabled.

ACTION: Additions to and deletions from the procurement list.

SUMMARY: This action adds products and services to the Procurement List that will be furnished by nonprofit agencies employing persons who are blind or have other severe disabilities, and deletes products and services from the Procurement List previously furnished by such agencies.

DATES: Effective Date: May 16, 2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 1/14/2011 (76 FR 2673-2674); 1/28/2011 (76 FR 5142-5143); 2/4/2011 (76 FR 6451-6452); and 2/11/2011 (76 FR 7824-7825), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 8465-00-NIB-0211—Pouch, Four 3-round magazines, M26 12-guage shotgun MASS, Camouflage

NSN: 8465-00-NIB-0212—Pouch, Four 5-round magazines, M26 12-guage shotgun MASS, Camouflage

NSN: 8465-00-NIB-0213—Soft carrying case, Shotgun, 3-round magazine, M26 12-guage shotgun MASS, Camouflage

NSN: 8465-00-NIB-0214—Soft carrying case, Shotgun, 5-round magazine, M26 12-guage shotgun MASS, Camouflage

NPA: L.C. Industries for the Blind, Inc., Durham, NC

Contracting Activity: ARMY CONTRACTING COMMAND, PICATINNY ARSENAL, NJ

COVERAGE: C-List for 100% of the requirement of the Picatinny Arsenal as aggregated by the Department of the Army, Tank and Armament Command.

Services

Service Type/Location: Custodial Service, Donald J. Pease Federal Building, 143 West Liberty Street, Medina, OH

NPA: VGS, Inc., Cleveland, OH

Contracting Activity: GSA, PUBLIC BUILDINGS SERVICE, PROPERTY MANAGEMENT DIVISION, INDEPENDENCE, OH

Service Type/Location: Operations Support Service, Federal Energy Regulatory Commission (FERC), 888 First Street, NE., Washington, DC

NPAs: ServiceSource, Inc., Alexandria, VA (Prime Contractor), Sheltered Occupational Center of Northern Virginia, Inc., Arlington, VA (Subcontractor), Able Forces, Inc., Front Royal, VA (Subcontractor)

Contracting Activity: DEPARTMENT OF ENERGY, FEDERAL ENERGY REGULATORY COMMISSION, WASHINGTON, DC

Service Type/Location: Full Food Service, U.S. Military Academy Preparatory School, West Point, NY

NPA: New Dynamics Corporation, Middletown, NY

Contracting Activity: DEPT OF THE ARMY, XR W6BA ACA WEST POINT, WEST POINT NY

Deletions

On 2/4/2011 (76 FR 6451-6452) and 2/18/2011 (76 FR 9555), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Cloth, Abrasive

NSN: 5350-00-229-3081

NPA: Louisiana Association for the Blind, Shreveport, LA

Contracting Activity: GENERAL SERVICES ADMINISTRATION, FORT WORTH, TX

Portfolio

NSN: 7510-01-502-2918—16″ x 12″ x 4″

NPA: South Texas Lighthouse for the Blind, Corpus Christi, TX

Contracting Activity: GENERAL SERVICES ADMINISTRATION, NEW YORK, NY

Food Service Cleaner

NSN: 7930-01-512-7758

NPA: The Lighthouse for the Blind, St. Louis, MO

Contracting Activity: GENERAL SERVICES ADMINISTRATION, FORT WORTH, TX

Services

Service Type/Locations: Janitorial/Custodial, Federal Service Center, 5600 Rickenbacker Road, Bell, CA

Social Security Administration Building, 230-244 Breed Street, Los Angeles, CA

NPA: Braswell Rehabilitation Institute for Development of Growth & Educational Services, Inc., Pomona, CA

Contracting Activity: GSA, PUBLIC BUILDINGS SERVICE, OFFICE OF PROPERTY MANAGEMENT, SAN FRANCISCO, CA

Barry S. Lineback,
Director, Business Operations.

[FR Doc. 2011-9206 Filed 4-14-11; 8:45 am]

BILLING CODE 6353-01-P